Proclamation 9282 of May 15, 2015

World Trade Week, 2015

By the President of the United States of America

A Proclamation

After 6 years of tremendous progress, America has fought its way back from the worst recession of our lifetimes. With the grit and determination of working families, we have rebuilt our economy, retooled the auto industry, and revitalized American manufacturing. Our economy is growing and creating jobs at the fastest pace in over a decade, and as this progress continues, we must ensure that all Americans can share in our Nation's prosperity. This conviction is at the core of middle-class economics, and few things are as vital to ensuring that our economy benefits all Americans as trade. Trade allows our people to work, our businesses to thrive, and our goods and services to compete on a global scale. This week, we reaffirm the importance of trade, and we redouble our efforts to position our workers, farmers, manufacturers, and businesses at the center of the 21st-century global economy.

America's future depends on unlocking economic opportunities beyond our borders, where 95 percent of the world's customers live. Last year was the fifth straight record-breaking year for United States exports, supporting 11.7 million American jobs and contributing nearly one-third of our country's overall economic growth since 2009. Continuing this steady progress will strengthen America's middle class because businesses that export tend to hire more, pay their workers more, and invest more in innovation and research.

Americans prosper when foreign markets are open and our trading partners play by the rules. My Administration's efforts to advance trade are focused on opening markets to American products and ensuring the rules of the trading system are fair and reflect our values, including on issues such as workers' rights and the environment. That is why I am committed to leading on trade—creating a race to the top for higher wages and better working conditions—with a progressive, values-driven agenda that will ensure the United States is able to shape the rules of the global economy to benefit our workers and create economic opportunities for our people and all those around the globe.

In the Asia-Pacific, the Trans-Pacific Partnership (TPP) agreement will open new doors of opportunity for American workers and businesses in the world's fastest growing region. Through the TPP, the United States is updating NAFTA, instituting stronger, fully enforceable labor and environmental standards, and ensuring our trade partners play by the rules. With American leadership, this agreement will remove trade barriers and provide our Nation's exporters and innovators access to these markets. And to protect our workers and improve the lives of workers across the globe, it will advance labor protections—including a minimum wage, a prohibition on child labor and forced labor, and the right to form unions. This agreement will level the playing field for our workers and increase exports of products stamped “Made in the USA.”

Smart trade agreements are important to helping middle-class families get ahead. My Administration has redoubled our efforts to enforce existing trade agreements, and we are working to ensure all Americans have the knowledge and skills to succeed in an export-driven economy. Our work has produced real results, protecting jobs here at home and making it easier for businesses to reach consumers living outside our borders, and it has demonstrated that when the playing field is level, American workers and businesses do not just compete—they win.

During World Trade Week, we renew our commitment to leading on trade in order to support more jobs and increase wages here at home. For nearly a century, a key component of this leadership has been strong bipartisan support for trade negotiating authority, which the Congress now has an opportunity to upgrade and, in so doing, shape how the United States and our trading partners engage on trade in the 21st century. Generations of hardworking Americans have made our economy the greatest in the world, and together, we can ensure that trade safeguards our country's promise as a land of opportunity where everyone can make it if they try.

NOW, THEREFORE, I, BARACK OBAMA, President of the United States of America, by virtue of the authority vested in me by the Constitution and the laws of the United States, do hereby proclaim May 17 through May 23, 2015, as World Trade Week. I encourage all Americans to visit www.WhiteHouse.gov/Trade and to observe this week with events, trade shows, and educational programs that celebrate and inform Americans about the benefits of trade to our Nation and the global economy.

IN WITNESS WHEREOF, I have hereunto set my hand this fifteenth day of May, in the year of our Lord two thousand fifteen, and of the Independence of the United States of America the two hundred and thirty-ninth.

[FR Doc. 2015-12439

Filed 5-19-15; 11:15 am]

Billing code 3295-F5